DEPARTMENT OF ENERGY

Office of Energy Efficiency and Renewable Energy

Call for U.S.-China Energy Performance Contracting Pilot Projects To Be Recognized at the 7th Annual U.S.-China Energy Efficiency Forum

AGENCY: Office of Energy Efficiency and Renewable Energy, Department of Energy (DOE).

ACTION: Notice of request for project submissions.

SUMMARY: The Department of Energy (DOE) gives notice of a request for submission of innovative U.S.-China energy performance contracting (EPC) projects. EPC projects at public, commercial, and industrial facilities located in the U.S. or China with project participation from at least one U.S. entity and at least one Chinese entity are eligible. Eligible entities include energy service companies (ESCOs), technology providers, facility owners or operators, and financiers. EPC projects that meet the 2016 Pilot Project Criteria and demonstrate replicability will receive special recognition at the 7th Annual U.S.-China Energy Efficiency Forum in October 2016 in Beijing. Some recognition recipients will be invited to speak at a special breakout session.

DATES: Project submissions for consideration must be received by August 22, 2016.

ADDRESSES: Project submissions should be emailed in English and Chinese to the Pacific Northwest National Laboratory and ESCO Committee of China Energy Conservation Association at the email addresses provided below. “The Pilot Project Criteria 2016” and “Appendix: Project Submission Template” can be found on: http://www.globalchange.umd.edu/archived-research-areas/energy-efficiency-and-mitigation/epc/.

Applicants must complete the Chinese and English project submission template and draft a proposed MOU. The proposed MOU should memorialize the cooperation of U.S. and Chinese entities applying as a team, set out their intention to do an EPC project(s); and include all minimum U.S.-China EPC Pilot Project Program requirements. Submit one email with project submission and proposed MOU as attachments to the following email addresses: m.evans@pnnl.gov, qing.tan@pnnl.gov and international@emca.cn. Failure to submit complete, bilingual project information may result in ineligibility.

FOR FURTHER INFORMATION CONTACT:

Questions about the U.S.-China Energy Performance Contracting Initiative—Ms. Arlene Fetizanan, U.S. Department of Energy, Arlene.Fetizanan@ee.doe.gov or (202) 586-3124.

Questions about the energy performance contracting pilot project criteria and submission—Ms. Sha Yu, Pacific Northwest National Laboratory, sha.yu@pnnl.gov or (301) 314-6736.

SUPPLEMENTARY INFORMATION:

Background: This call for EPC pilot projects is part of the Energy Efficiency in Buildings and Industry Initiative under the U.S.-China Climate Change Working Group (CCWG). The CCWG was launched in 2013, and now includes nine action initiatives for understanding and addressing climate change in the United States and China. Under the CCWG Energy Efficiency in Buildings and Industry Initiative, DOE and China's National Development and Reform Commission (NDRC) launched a program to promote EPC. The program aims to improve energy efficiency and reduce emissions in the U.S. and China through deep energy retrofits, using innovative financing where appropriate. The combined $20 billion U.S. and China EPC markets have the potential to grow dramatically, delivering significant environmental and economic benefits. For more information on U.S.-China EPC market trends and resources to assist clients, practitioners, and financial institutions in selecting, developing, and executing EPC projects, please visit: http://www.globalchange.umd.edu/archived-research-areas/energy-efficiency-and-mitigation/epc/.

The U.S.-China Energy Efficiency Forum is an annual, invitation-only event at which the two sides discuss energy efficiency issues and develop initiatives for further collaboration. Over 200 senior private sector, NGO, and government stakeholders attend. This is the second year that DOE and NDRC have issued a request for recognition of U.S.-China EPC pilot projects at the Energy Efficiency Forum. In 2015, DOE and NDRC released their first call for U.S.-China EPC pilot project submissions for recognition. Three innovative pilot projects were recognized by senior U.S. and Chinese officials at the 6th Annual U.S.-China Energy Efficiency Forum (http://energy.gov/eere/articles/win-win-opportunities-sixth-annual-us-china-energy-efficiency-forum), as well as at the 2016 U.S.-China Strategic and Economic Dialogue.

Objective: This recognition program encourages U.S. and Chinese organizations to obtain real-world experience in each other's market using innovative, feasible business models alongside local practitioners. Recognized EPC projects will use integrated solutions to foster deep energy savings, demonstrating an optimal combination of project development and design, energy auditing, energy savings guarantees, third-party financing, contracting, and Measurement and Verification (M&V). For example, an innovative pilot project may consist of a bundle of short and long-payback measures for an attractive overall return on investment and deeper energy savings than shorter-payback measures, alone. The initiative aims to encourage as many noteworthy projects as practical in the public infrastructure, public and commercial buildings and industrial facilities sectors. All projects recognized should have participation from both Chinese and U.S. entities.

The list of 2016 Pilot Project Criteria has been vetted by both DOE and NDRC (http://www.globalchange.umd.edu/data/epc/Pilot_Project_Opportunity_2016_ENG_CHN_final.pdf). Applicants must complete the Chinese and English project submission template and draft a proposed MOU. The proposed MOU should memorialize the cooperation of U.S. and Chinese entities applying as a team, set out their intention to do an EPC project(s); and include all minimum U.S.-China EPC Pilot Project Program requirements. In order to meet requirements, applications should describe the facility that will undergo a retrofit under an EPC and who the primary participants are. EPC pilot projects should include participation by both U.S. and Chinese stakeholders. The application should outline an integrated approach that will retrofit at least three systems and reduce energy consumption relative to baseline conditions. The EPC pilot project should utilize innovative financing, contracting and/or M&V and indicate how it is noteworthy relative to traditional EPCs in the market. Applicants agree to share project progress and data on energy savings quarterly. EPC pilot projects must start within nine months after signing the MOU. Refer to “The Pilot Project Criteria 2016” and “Appendix: Project Submission Template” in the link above for more requirement details. Failure to submit complete, bilingual project information may result in ineligibility.

Issued in Washington, DC, on July 21, 2016.
Robert L. Sandoli,
Director of International Programs, Office of Energy Efficiency and Renewable Energy.

[FR Doc. 2016-17986 Filed 7-28-16; 8:45 am]

BILLING CODE 6450-01-P